FEDERAL COMMUNICATIONS COMMISSION

Radio Broadcasting Services; AM or FM Proposals To Change The Community of License

AGENCY: Federal Communications Commission.

ACTION: Notice.

DATES: The agency must receive comments on or before April 16, 2019.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: WE HAVE THIS HOPE CHRISTIAN RADIO, INC., Fac. ID No. 175404, KOLJ-FM, Channel 216C1, From WARROAD, MN, To WANNASKA, MN, BPED-20190108AAG; CENTRO FAMILIAR CRISTIANO, Fac. ID No. 164149, KLSY(FM), Channel 229C0, From MONTESANO, WA, To BELFAIR, WA, BPH-20181108AAQ; CHISHOLM TRAIL COMMUNICATIONS LLC, Fac. ID No. 165950, KOME-FM, Channel 238C3, From MERIDIAN, TX, To TOLAR, TX, BPH-20181228AAD; THE CROMWELL GROUP, INC. OF ILLINOIS, Fac. ID No. 65572, WMCI(FM), Channel 267B1, From NEOGA, IL, To MATTOON, IL, BPH-20181109ACC; CITICASTERS LICENSES, INC., AS DEBTOR IN POSSESSION, Fac. ID No. 23830, WSOL-FM, Channel 268C, From BRUNSWICK, GA, To YULEE, FL, BPH-20181221AAT; CHISHOLM TRAIL COMMUNICATIONS LLC, Fac. ID No. 198784, KITT(FM), Channel 293A, From HICO, TX, To MERIDIAN, TX, BPH-20181228AAC; and JODESHA BROADCASTING, INC., Fac. ID No. 78160, KJET(FM), Channel 289C2, From RAYMOND, WA, To UNION, WA, BPH-20190128AAS.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
Nazifa Sawez,
Assistant Chief, Audio Division, Media Bureau.

[FR Doc. 2019-02559 Filed 2-14-19; 8:45 am]

BILLING CODE 6712-01-P